DEPARTMENT OF THE INTERIOR

Bureau of Land Management

[LLNVL01000. L51100000.GN0000. LVEMF1501180 241A; MO# 4500069201]

Notice of Availability of the Draft Environmental Impact Statement for the Proposed Bald Mountain Mine North and South Operations Area Projects, White Pine County, NV

AGENCY: Bureau of Land Management, Department of Interior.

ACTION: Notice.

SUMMARY: In compliance with the National Environmental Policy Act (NEPA) of 1969, as amended, and the Federal Land Policy and Management Act (FLPMA) of 1976, as amended, the Bureau of Land Management (BLM) Egan Field Office, Ely, Nevada has prepared a Draft Environmental Impact Statement (EIS) for the proposed Bald Mountain Mine North and South Operations Area Projects (Project) and by this notice is announcing the opening of the comment period.

DATES: To ensure comments will be considered, the BLM must receive written comments on the Bald Mountain Mine North and South Operations Area Projects Draft EIS within 45 days following the date the Environmental Protection Agency publishes their Notice of Availability in the Federal Register. The BLM will announce any public meetings or other public involvement activities at least 15 days in advance through public notices, media releases, and/or mailings.

ADDRESSES: You may submit comments related to the Bald Mountain Mine North and South Operations Area Projects Draft EIS by any of the following methods:

• Email: BLM_NV_EYDO_Barrick_Bald_EIS@blm.gov.

• Fax: 775-289-1910.

• Mail: BLM Ely District, Egan Field Office, HC 33 Box 33500, Ely, NV 89301.

Copies of the Bald Mountain Mine North and South Operations Area Projects Draft EIS are available in the Ely District Office at the above address and on the Ely District's Web page at http://www.blm.gov/nv/st/en/fo/ely_field_office/blm_programs/minerals/mining_projects/bald_mountain_mine0.html.

FOR FURTHER INFORMATION CONTACT: For further information contact Miles Kreidler, Project Lead, telephone: 509-536-1222; address: 702 North Industrial Way, Ely, NV 89301; email: mkreidler@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Barrick Gold U.S. Inc. (Barrick) proposes to expand, construct, and operate an open-pit gold mining operation located in the Bald Mountain Mining District in White Pine County, Nevada, approximately 65 miles northwest of the Town of Ely. The proposed development and expansion would create an additional 6,891 acres of disturbance, which would be located primarily on public land managed by the BLM. The projected mining period is 21 years, but the life of the mine would extend for 80 years, including construction, operation, reclamation, closure, reclamation monitoring, and post-closure monitoring.

The Draft EIS describes and analyzes the proposed project site-specific impacts (including cumulative) on all affected resources. The DEIS describes four alternatives: approval of the project as proposed by Barrick (the Proposed Action), the North and South Operations Area Facilities Reconfiguration Alternative, the Western Redbird Modification Alternative, and the No Action Alternative. The North and South Operations Area Facilities Reconfiguration Alternative was developed to address potential impacts to mule deer migration; greater sage-grouse leks and associated Preliminary Priority Habitat (PPH) and Preliminary General Habitat (PGH); visual impacts affecting the cultural setting of the Pony Express National Historic Trail, Ruby Valley Pony Express Station, and Fort Ruby National Historic Landmark; and visual impacts affecting visitor aesthetics at the Ruby Lake National Wildlife Refuge. The North and South Operations Area Facilities Reconfiguration Alternative would result in a decrease of 3703 acres (−54 percent) of disturbance compared to the Proposed Action. The Western Redbird Modification Alternative was developed to further address potential impacts to mule deer migration and would result in a decrease of 4,339 acres (−63 percent) of disturbance compared to the Proposed Action. Several other alternatives were considered but eliminated from further analysis. These alternatives eliminated from further consideration are discussed in Chapter 2 of the Draft EIS. Mitigation measures are considered to minimize environmental impacts and to assure the Proposed Action does not result in unnecessary or undue degradation of public lands.

On April 16, 2012, a Notice of Intent was published in the Federal Register inviting scoping comments on the Proposed Action. A legal notice was prepared by the BLM and published in the Elko Daily Free Press, Ely Times, Eureka Sentinel, and Reno Gazette-Journal informing the public of the BLM's intention to prepare the Bald Mountain Mine North and South Operations Area Projects EIS. Public scoping meetings were held May 7-10 in Ely, Eureka, Elko, and Reno, Nevada. A total of 25 comment submittals containing 180 individual comments were received. The comments are incorporated in a Scoping Report and were considered in the preparation of this Draft EIS.

Concerns raised during scoping include: potential degradation of surface water or groundwater quality and potential depletion to groundwater from pit lakes and/or water withdrawals for mine operations; potential impacts to mule deer habitat and migration corridors; potential impacts to greater sage-grouse habitat and strutting grounds; potential impacts to Wild Horse Herd Management Areas (HMAs), including herd access to surface water sources; potential air quality impacts from fugitive dust containing mercury, arsenic, or other contaminants; and potential impacts to visual resources including the visual setting of the Pony Express Trail and the Ruby Lake National Wildlife Refuge. The North and South Operations Area Facilities Reconfiguration Alternative was developed to help reduce impacts to mule deer, greater sage-grouse, and visual resources. The Western Redbird Modification Alternative was developed to help further reduce impacts to mule deer. Mitigation measures have also been included to show how impacts on resources could be minimized.

The BLM has prepared the Draft EIS in conjunction with its five Cooperating Agencies: Nevada Department of Wildlife, U.S. Fish and Wildlife Service, State of Nevada Sagebrush Ecosystem Program, Eureka County, and White Pine County.

Please note that public comments and information submitted, including names, street addresses, and email addresses of persons who submit comments will be available for public review and disclosure at the above address during regular business hours (7:30 a.m. to 4:30 p.m.), Monday through Friday, except holidays.

Before including your address, phone number, email address, or other personal identifying information in your comment, you should be aware that your entire comment—including your personal identifying information—may be made publicly available at any time. While you can ask us in your comment to withhold your personal identifying information from public review, we cannot guarantee that we will be able to do so.

Authority: 40 CFR 1501 and 43 CFR 3809.

Jill A. Moore,
Field Manager, Egan Field Office.

[FR Doc. 2015-19924 Filed 8-13-15; 8:45 am]

BILLING CODE 4310-HC-P